SECURITIES AND EXCHANGE COMMISSION

Issuer Delisting; Notice of Application of the Thai Capital Fund Inc. To Withdraw Its Common Stock, $.01 Par Value, From Listing and Registration on the Pacific Exchange, Inc. File No. 1-06062

November 26, 2003.

The Thai Capital Fund Inc., a Maryland corporation (“Issuer”), has filed an application with the Securities and Exchange Commission (“Commission”), pursuant to Section 12(d) of the Securities Exchange Act of 1934 (“Act”)¹ and Rule 12d2-2(d) thereunder,² to withdraw its common stock, $.01 par value, (“Security”), from listing and registration on the Pacific Exchange, Inc. (“PCX” or “Exchange”).

¹ 15 U.S.C. 78l(d).

² 17 CFR 240.12d2-2(d).

The Board of Directors (“Board”) of the Issuer adopted a resolution on October 22, 2003 to withdraw its Security from listing on the Exchange. The Board determined that it would be in the best interest of the Issuer and its shareholders to voluntarily withdraw from listing and registration on the PCX. The Board is currently seeking to list its Security on the American Stock Exchange LLC (“Amex”). The Board states that in its judgment, listing on the Amex will afford investors greater exposure on a larger exchange.

The Issuer stated in its application that it has complied with PCX Rule 5.4(b) that governs the removal of securities from listing and registration on the Exchange. The Issuer's application relates solely to the withdrawal of the Security from listing and registration on the PCX and from registration under Section 12(b)³ of the Act and shall not affect its obligation to be registered under Section 12(g) of the Act.⁴

³ 15 U.S.C. 78l(b).

⁴ 15 U.S.C. 78l(g).

Any interested person may, on or before December 19, 2003, submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority. ⁵
⁵ 17 CFR 200.30-3(a)(1).
Jonathan G. Katz,
Secretary.

[FR Doc. 03-30053 Filed 12-2-03; 8:45 am]

BILLING CODE 8010-01-P